DEPARTMENT OF JUSTICE

Notice of Lodging of Consent Decree Under the Clean Air Act; 42 U.S.C. 7401, et seq.

Notice is hereby given that on September 14, 2000, a proposed Consent Decree (“Decree”) in United States v. Philips Petroleum Company, Civil Action No. 1: 97-CV-0144-B, was lodged with the United States District Court for the District of Utah. The United States filed this action pursuant to Section 113 of the Clean Air Act, 42 U.S.C. 7413, seeking injunctive relief and civil penalties for the Defendant's discharge of sulfur dioxide to the atmosphere in excess of the levels permitted by the Utah State Implementation Plan (“SIP”). The violations occurred at the Phillips Petroleum Company's Woods Cross, Utah refinery.

The proposed Consent Decree requires the Defendants to operate its sulfur recovery unit within the interim limitations established by the Consent Decree until such time as the State of Utah revises its State Implementation Plan requirements. In addition, the Decree requires that Philips pay a civil penalty in the amount of $375,000 for its past violations of the Act and the Utah SIP.

The Department of Justice will receive for a period of thirty (30) days from the date of this publication comments relating to the Decree. Comments should be addressed to the Assistant Attorney General of the Environmental and Natural Resources Division, Department of Justice, Washington, DC 20530, and should refer to, United States v. Phillips Petroleum Company, Civil Action No. 1: 97-CV-0144-B, and D.J. Ref. # 90-5-2-1-2194.

The Decree may be examined at the United States Department of Justice, Environment and Natural Resources Division, Denver Field Office, 999 18th Street, North Tower Suite 945, Denver, Colorado, 80202 and the U.S. EPA Region VIII, 999 18th Street. A copy of the Decree may be obtained by mail from the Consent Decree Library, U.S. Department of Justice, P.O. Box 7611, Washington, DC 20044-7611. In requesting a copy, please enclose a check in the amount of $5.00 for the Decree (25 cents per page reproduction cost) payable to the Consent Decree Library.

Walker B. Smith,
Deputy Chief, Environmental Enforcement Section, Environment and Natural Resources Division.

[FR Doc. 00-25718 Filed 10-5-00; 8:45 am]

BILLING CODE 4410-15-M